BUREAU OF CONSUMER FINANCIAL PROTECTION

[Docket No. CFPB-2020-0012]

Agency Information Collection Activities: Submission for OMB Review; Comment Request

AGENCY: Bureau of Consumer Financial Protection.

ACTION: Notice and request for comment.

SUMMARY: In accordance with the Paperwork Reduction Act of 1995 (PRA), the Bureau of Consumer Financial Protection (Bureau) is requesting to renew the Office of Management and Budget (OMB) approval for an existing information collection titled, “Application Forms for Financial Empowerment Training Programs.”

DATES: Written comments are encouraged and must be received on or before March 11, 2020 to be assured of consideration.

ADDRESSES: Comments in response to this notice are to be directed towards OMB and to the attention of the OMB Desk Officer for the Bureau. You may submit comments, identified by the title of the information collection, OMB Control Number (see below), and docket number (see above), by any of the following methods:

• Federal eRulemaking Portal: http://www.regulations.gov. Follow the instructions for submitting comments.

• Email: OIRA_submission@omb.eop.gov.

• Fax: (202) 395-5806.

• Mail: Office of Management and Budget, New Executive Office Building, Room 10235, Washington, DC 20503.

In general, all comments received will become public records, including any personal information provided. Sensitive personal information, such as account numbers or Social Security numbers, should not be included.

FOR FURTHER INFORMATION CONTACT: Documentation prepared in support of this information collection request is available at www.reginfo.gov (this link becomes active on the day following publication of this notice). Select “Information Collection Review,” under “Currently under Review,” use the dropdown menu “Select Agency” and select “Consumer Financial Protection Bureau” (recent submissions to OMB will be at the top of the list). The same documentation is also available at http://www.regulations.gov. Requests for additional information should be directed to Darrin King, PRA Officer, at (202) 435-9575, or email: CFPB_PRA@cfpb.gov. If you require this document in an alternative electronic format, please contact CFPB_Accessibility@cfpb.gov. Please do not submit comments to these email boxes.

SUPPLEMENTARY INFORMATION:

Title of Collection: Application Forms for Financial Empowerment Training Programs.

OMB Control Number: 3170-0068.

Type of Review: Revision of a currently approved collection.

Affected Public: Government social service entities, and not-for-profit institutions.

Estimated Number of Annual Respondents: 275.

Estimated Total Annual Burden Hours: 825.

Abstract: The Bureau's Office of Community Affairs (OCA) is responsible for developing strategies to improve the financial capability of low-income and economically vulnerable consumers, such as consumers who are unbanked or underbanked, those with thin or no credit file, and households with limited savings. To address the needs of these consumers, OCA has developed two initiatives that target intermediary organizations and provide tools, training, technical assistance, and other services to help them reach low-income and economically vulnerable consumers to provide them the financial empowerment tools and information that they need, when they need it, and where they are. These initiatives: (1) Your Money, Your Goals, and (2) Tax Time Savings both require the Bureau to engage organizations to participate in our financial empowerment initiatives. The proposed information collection request consists of application forms that will be used by community-based organizations, local, State, or Federal government entities, and national non-profit organizations to indicate their desire and ability to participate in OCA's various initiatives. Empowerment will use the information provided in these applications to select the best qualified organizations for participation.

Request for Comments: The Bureau issued a 60-day Federal Register notice on November 15, 2019, (84 FR 62514), Docket Number: CFPB-2019-0056. Comments were solicited and continue to be invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be reviewed by OMB as part of its review of this request. All comments will become a matter of public record.

Dated: February 5, 2020.
Darrin King,
Paperwork Reduction Act Officer, Bureau of Consumer Financial Protection.

[FR Doc. 2020-02545 Filed 2-7-20; 8:45 am]

BILLING CODE 4810-AM-P